DEPARTMENT OF EDUCATION

Office of Vocational and Adult Education, Overview Information, School Dropout Prevention Program; Notice inviting applications for new awards for fiscal year (FY) 2005.

Catalog of Federal Domestic Assistance (CFDA) Number: 84.360A.

DATES: Application Available: July 8, 2005.

Deadline for Transmittal of Applications: August 17, 2005.

Eligible Applicants: State educational agencies (SEAs), as defined in 34 CFR 77.1.

Estimated Available Funds: $4,500,000.

Estimated Range of Awards: $2,000,000-$2,500,000 for the 36-month project period.

Note: The Department will fund multi-year projects for a project period of 36 months entirely from the FY 2005 appropriation in order to assist grantees in meeting the statutory purposes of the School Dropout Prevention (SDP) program and the requirements of this notice.

Estimated Average Size of Awards: $2,200,000.

Maximum Award: Applications that propose a budget exceeding $2,500,000 for a project period of 36 months will not be reviewed as part of the regular application process. However, if after the Secretary selects applications to be funded, it appears that additional funds remain available, the Secretary may choose to review those additional applications that requested funds exceeding the maximum amount specified. If the Secretary chooses to fund any of those additional applications, applicants will be required to work with the Department to revise their proposed budgets to fit within the appropriate funding range.

Estimated Number of Awards: 2.

Note: The Department is not bound by any estimates in this notice.

Project Period: Up to 36 months.

Full Text of Announcement

I. Funding Opportunity Description

Purpose of Program: This program supports the development and implementation of an effective, sustainable, and coordinated school dropout prevention and reentry programs. An additional purpose is for SEAs to create collaborations with other agencies and work with local educational agencies (LEAs) to assist schools in dropout prevention and reentry activities, including using eighth grade assessments and other data to develop and implement individual performance plans for students entering the ninth grade who are at risk of failing to meet challenging State academic standards and of dropping out of high school. The dropout prevention and reentry strategies implemented by the SEA must be scientifically-based, sustainable, and widely replicated.

SEAs must use the funds received under this competition to support activities—

(1) in schools that—

(a) serve students in grades 6 through 12; and

(b) have annual school dropout rates that are above the State average annual dropout rate; or

(2) in the middle schools that feed students into the schools described above.

Priorities: These priorities are from the notice of final priorities, requirements, definitions, and selection criteria for this program (NFP), published elsewhere in this issue of the Federal Register.

Absolute Priorities: For FY 2005 these priorities are absolute priorities. Under 34 CFR 75.105(c)(3) we consider only applications that meet these priorities.

The priorities are:

Priority 1—Collaboration with other agencies and Priority 2—Individual Performance Plans for At-Risk Incoming Ninth Grade Students

The requirements for meeting these priorities are in the NFP, published elsewhere in this issue of the Federal Register.

Application Requirements

Additional requirements for all projects funded through this competition are in the NFP, published elsewhere in this issue of the Federal Register.

These additional requirements are: Eligibility Requirement—State Educational Agencies, Evaluation Requirements, Performance Measures Requirements and Requirements for Accountability for Results.

Definitions: In addition to the definitions in the authorizing statute and 34 CFR 77.1, the definitions in the NFP, published elsewhere in this issue of the Federal Register, apply.

Program Authority: 20 U.S.C. 6551, et seq.

Applicable Regulations: (a) The Education Department General Administrative Regulations (EDGAR) in 34 CFR parts 75, 77, 79, 80, 81, 82, 84, 85, 97, 98, and 99. (b) The priorities, requirements, definitions, and selection criteria contained in the NFP, published elsewhere in this issue of the Federal Register.

II. Award Information

Type of Award: Discretionary grants.

Estimated Available Funds: $4,500,000.

Estimated Range of Awards: $2,000,000-$2,500,000 for the 36-month project period.

Note: The Department will fund multi-year projects for a project period of 36 months entirely from the FY 2005 appropriation in order to assist grantees in meeting the statutory purposes of the SDP and the requirements of this notice.

Estimated Average Size of Awards: $2,200,000.

Maximum Award: Applications that propose a budget exceeding $2,500,000 for a project period of 36 months will not be reviewed as part of the regular application process. However, if after the Secretary selects applications to be funded, it appears that additional funds remain available, the Secretary may choose to review those additional applications that requested funds exceeding the maximum amount specified. If the Secretary chooses to fund any of those additional applications, applicants will be required to work with the Department to revise their proposed budgets to fit within the appropriate funding range.

Estimated Number of Awards: 2.

Note: The Department is not bound by any estimates in this notice.

Project Period: Up to 36 months.

III. Eligibility Information

1. Eligible Applicants: SEAs, as defined in 34 CFR 77.1.

2. Cost Sharing or Matching: This program does not involve cost sharing or matching but does involve supplement-not-supplant funding provisions (Section 1823(a)(1)(F) of the Elementary and Secondary Education Act of 1965, as amended).

IV. Application and Submission Information

1. Address To Request Application Package: Valerie Randall-Walker, U.S. Department of Education, 400 Maryland Avenue, SW., Potomac Center Plaza, room 11081, Washington, DC 20202-7241. Telephone: (202) 245-7794 or by e-mail: dropoutprevention@ed.gov.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Applications must include the State's event dropout rate and the event dropout rate of each school to be served under this grant. Definitions of “State event dropout rate” and “school event dropout rate” are included in both the NFP, published elsewhere in this issue of the Federal Register, and the application package for this program. Other requirements concerning the content of an application, together with the forms you must submit, are in the application package.

Page Limit: The application narrative (Part III of the application) is where you, the applicant, address the selection criteria that reviewers use to evaluate your application. We highly encourage you to limit Part III to the equivalent of no more than 25 pages.

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit recommendation does not apply to Part I, the cover sheet; Part II, the budget section, including the narrative budget justification; Part IV, the assurances and certifications; or the one-page abstract, the resumes, the bibliography, or the letters of support. However, you must include all of the application narrative in Part III.

3. Submission Dates and Times: Applications Available: July 8, 2005.

Deadline for Transmittal of Applications: August 17, 2005.

Applications for grants under this program may be submitted electronically using the Electronic Grant Application System (e-Application) accessible through the Department's e-Grants system, or in paper format by mail or hand delivery. For information (including dates and times) about how to submit your application electronically, or by mail or hand delivery, please refer to section IV. 6. Other Submission Requirements in this notice.

We do not consider an application that does not comply with the deadline requirements.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Other Submission Requirements: Applications for grants under this program may be submitted electronically or in paper format by mail or hand delivery.

a. Electronic Submission of Applications.

If you choose to submit your application to us electronically, you must use e-Application available through the Department's e-Grants system, accessible through the e-Grants portal page at: http://e-grants.ed.gov.

While completing your electronic application, you will be entering data online that will be saved into a database. You may not e-mail an electronic copy of a grant application to us.

Please note the following:

• Your participation in e-Application is voluntary.

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you submit your application in paper format.

• You must submit all documents electronically, including the Application for Federal Education Assistance (ED 424), Budget Information—Non-Construction Programs (ED 524), and all necessary assurances and certifications.

• Any narrative sections of your application must be attached as files in a .DOC (document), .RTF (rich text), or .PDF (Portable Document) format.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the ED 424 to the Application Control Center after following these steps:

(1) Print ED 424 from e-Application.

(2) The SEA's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of System Unavailability: If you are prevented from electronically submitting your application on the application deadline date because the e-Application system is unavailable, we will grant you an extension of one business day in order to transmit your application electronically, by mail, or by hand delivery. We will grant this extension if—

(1) You are a registered user of e-Application and you have initiated an electronic application for this competition; and

(2) (a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If the system is down and therefore the application deadline is extended, an e-mail will be sent to all registered users who have initiated an e-Application.

Extensions referred to in this section apply only to the unavailability of the Department's e-Application system. If the e-Application system is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the applicable following address:

By mail through the U.S. Postal Service:

U.S. Department of Education, Application Control Center, Attention: (CFDA Number 84.360A), 400 Maryland Avenue, SW., Washington, DC 20202-4260, or

By mail through a commercial carrier:

U.S. Department of Education, Application Control Center—Stop 4260, Attention: (CFDA Number 84.360A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address:

U.S. Department of Education, Application Control Center, Attention: (CFDA Number 84.360A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from the NFP, published elsewhere in this issue of the Federal Register. The specific selection criteria to be used for this competition are listed in the application package.

VI. Award Administration Information

1. Award Notices: If your application is successful, we notify your U.S. Representative and U.S. Senators and send you a Grant Award Notification (GAN). We may also notify you informally.

If your application is not evaluated or not selected for funding, we notify you.

2. Administration and National Policy Requirements: We identify administration and national policy requirements in the application package and reference these and other requirements in the Application Regulations section of this notice.

We reference the regulations outlining the terms and conditions of an award in the Application Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: We explain the requirements for performance measures and accountability for results applicable to this program in the Performance Measures Requirements and Requirements for Accountability for Results sections of the Additional Requirements in the NFP, published elsewhere in this issue of the Federal Register.

VII. Agency Contact

FOR FURTHER INFORMATION CONTACT: Valerie Randall-Walker, U.S. Department of Education, 400 Maryland Avenue, SW., Potomac Center Plaza, room 11081, Washington, DC 20202-7241. Telephone: (202) 245-7794 or by e-mail: dropoutprevention@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index/html.

Dated: July 5, 2005.
Susan Sclafani,
Assistant Secretary for Vocational and Adult Education.

[FR Doc. 05-13578 Filed 7-7-05; 8:45 am]

BILLING CODE 4000-01-P